DEPARTMENT OF THE INTERIOR

National Park Service

[NPS-WASO-NAGPRA-NPS0031474; PPWOCRADN0-PCU00RP14.R50000]

Notice of Inventory Completion: U.S. Department of the Interior, National Park Service, Kaloko-Honokōhau National Historical Park, Kailua-Kona, HI

AGENCY: National Park Service, Interior.

ACTION: Notice.

SUMMARY: The U.S. Department of the Interior, National Park Service, Kaloko-Honokōhau National Historical Park has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to Kaloko-Honokōhau National Historical Park. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Kaloko-Honokōhau National Historical Park at the address in this notice by March 26, 2021.

ADDRESSES: John Broward, Superintendent, Kaloko-Honokōhau National Historical Park, 73-4786 Kanalani Street #14, Kailua-Kona, HI 96740, telephone (808) 329-6881 Ext. 1201, email john_broward@nps.gov.

SUPPLEMENTARY INFORMATION: Notice is here given in accordance with the Native American Graves Protection and Repatriation Act (NAGPRA), 25 U.S.C. 3003, of the completion of an inventory of human remains under the control of the U.S. Department of the Interior, National Park Service, Kaloko-Honokōhau National Historical Park, Kailua-Kona, HI. The human remains were removed from Kaloko, Hawaii County, HI.

This notice is published as part of the National Park Service's administrative responsibilities under NAGPRA, 25 U.S.C. 3003(d)(3). The determinations in this notice are the sole responsibility of the Superintendent, Kaloko-Honokōhau National Historical Park.

Consultation

A detailed assessment of the human remains was made by Kaloko-Honokōhau National Historical Park professional staff in consultation with representatives of the Office of Hawaiian Affairs and representatives of the ‘ohana of Annandale (Kailea); Ayau (Halealoha); Ching (Ulu); Harp (Paka); Lee (Reggie); Lui, (Nicole); Naboa (Nona); Nelson (Shane); Pai (Mahealani); and Vincent (William Kahale).

History and Description of the Remains

In 1971, human remains representing, at minimum, two individuals were removed from site D13-15 in Hawaii County, HI, during archeological excavations by the University of California at Santa Barbara prior to the establishment of Kaloko-Honokōhau National Historical Park. The human remains were donated to the National Park Service in 1991 along with other cultural material from the archeological work at Kaloko. When donated, the human remains were described as non-human, animal bone fragments. These remains were identified as human in 2019. No known individuals were identified. No associated funerary objects are present.

Site D13-15 is a permanent habitation complex that dates to traditional Hawaiian, pre-European contact times and is identified as Native Hawaiian.

Determinations Made by the U.S. Department of the Interior, National Park Service, Kaloko-Honokōhau National Historical Park

Officials of the U.S. Department of the Interior, National Park Service, Kaloko-Honokōhau National Historical Park have determined that:

• Pursuant to 25 U.S.C. 3001(9), the human remains described in this notice represent the physical remains of two individuals of Native American ancestry.

• Pursuant to 25 U.S.C. 3001(2), there is a relationship of shared group identity that can be reasonably traced between the Native American human remains and the ‘ohana of Annandale (Kailea); Ayau (Halealoha); Ching (Ulu); Harp (Paka); Lee (Reggie); Lui (Nicole); Naboa (Nona); Nelson (Shane); Pai (Mahealani); and Vincent (William Kahale).

Additional Requestors and Disposition

Lineal descendants or representatives of any Indian Tribe or Native Hawaiian organization not identified in this notice that wish to request transfer of control of these human remains should submit a written request with information in support of the request to John Broward, Superintendent, Kaloko-Honokōhau National Historical Park, 73-4786 Kanalani Street #14, Kailua-Kona, HI 96740, telephone (808) 329-6881 Ext. 1201, email john_broward@nps.gov, by March 26, 2021. After that date, if no additional requestors have come forward, transfer of control of the human remains to the ‘ohana of Annandale (Kailea); Ayau (Halealoha); Ching (Ulu); Harp (Paka); Lee (Reggie); Lui, (Nicole); Naboa (Nona); Nelson (Shane); Pai (Mahealani); and Vincent (William Kahale) may proceed.

The U.S. Department of the Interior, National Park Service, Kaloko-Honokōhau National Historical Park is responsible for notifying the Office of Hawaiian Affairs and the ‘ohana of Annandale (Kailea); Ayau (Halealoha); Ching (Ulu); Harp (Paka); Lee (Reggie); Lui, (Nicole); Naboa (Nona); Nelson (Shane); Pai (Mahealani); and Vincent (William Kahale) that this notice has been published.

Dated: February 4, 2021.
Melanie O'Brien,
Manager, National NAGPRA Program.

[FR Doc. 2021-03717 Filed 2-23-21; 8:45 am]

BILLING CODE 4312-52-P